DEPARTMENT OF ENERGY

Office of Energy Efficiency and Renewable Energy

Hydrogen and Fuel Cell Technical Advisory Committee (HTAC)

AGENCY: Office of Energy Efficiency and Renewable Energy, Department of Energy.

ACTION: Notice of open meeting.

SUMMARY: The Hydrogen and Fuel Cell Technical Advisory Committee (HTAC) was established under section 807 of the Energy Policy Act of 2005 (EPACT), Public Law 109-58; 119 Stat. 849. The Federal Advisory Committee Act, Public Law 92-463, 86 Stat. 770, requires that agencies publish notice of an advisory committee meeting in the Federal Register.

DATES: Tuesday, June 14, 2011, 1 p.m.-6:30 p.m.; Wednesday, June 15, 2011, 8:30 a.m.-2 p.m.

ADDRESSES: Marriott Rochester Airport Hotel, 1890 Ridge Road West, Rochester, New York.

FOR FURTHER INFORMATION CONTACT: Send questions/comments to the following e-mail address: HTAC@nrel.gov or check the Web site at: hydrogen.energy.gov.

SUPPLEMENTARY INFORMATION: Purpose of the Committee: To provide advice, information, and recommendations to the Secretary on the program authorized by title VIII of EPACT.

Tentative Agenda: (Subject to change; updates will be posted on http://hydrogen.energy.gov and copies of the final agenda will available the date of the meeting).

• DOE Program Updates

• Industry Presentations

• HTAC Subcommittee Overviews

• Fuel Cell Users Group

• State Initiatives

• Open Discussion

Public Participation: In keeping with procedures, members of the public are welcome to observe the business of the meeting of HTAC and to make oral statements during the specified period for public comment. The public comment period will take place between 1 p.m. and 1:15 p.m. on June 14, 2011. To attend the meeting and/or to make oral statements regarding any of the items on the agenda, e-mail HTAC@nrel.gov at least 5 business days before the meeting. Please indicate if you will be attending the meeting, whether you want to make an oral statement, and what organization you represent (if appropriate). Members of the public will be heard in the order in which they sign up for the public comment period. Oral comments should be limited to two minutes in length. Reasonable provision will be made to include the scheduled oral statements on the agenda. The Chair of the committee will make every effort to hear the views of all interested parties and to facilitate the orderly conduct of business. If you would like to file a written statement with the committee, you may do so either by submitting a hard copy at the meeting or by submitting an electronic copy by e-mail to: HTAC@nrel.gov.

Minutes: The minutes of the meeting will be available for public review at http://hydrogen.energy.gov.

Issued at Washington, DC, on May 13, 2011.
LaTanya R. Butler,
Acting Deputy Committee Management Officer.

[FR Doc. 2011-12193 Filed 5-17-11; 8:45 am]

BILLING CODE 6450-01-P